DEPARTMENT OF ENERGY

Privacy Act of 1974; System of Records

AGENCY: Department of Energy.

ACTION: Notice of a new system of records.

SUMMARY: As required by the Privacy Act of 1974 and the Office of Management and Budget (OMB) Circulars A-108 and A-130, the Department of Energy (DOE or the Department) is publishing notice of a new Privacy Act system of records. DOE proposes to establish System of Records DOE-47 Reasonable Accommodation Requests Records. The purpose of this system of records is to assemble under a single, focused system the Department's collection and treatment of information concerning records on employees and applicants for employment who seek and receive medical and non-medical reasonable accommodations.

DATES: This System of Records Notice (SORN) will become applicable following the end of the public comment period on October 28, 2024 unless comments are received that result in a contrary determination.

ADDRESSES: Written comments should be sent to the DOE Desk Officer, Office of Information and Regulatory Affairs, Office of Management and Budget, New Executive Office Building, Room 10102, 735 17th Street NW, Washington, DC 20503, and to Ken Hunt, Chief Privacy Officer, U.S. Department of Energy, 1000 Independence Avenue SW, Rm. 8H-085, Washington, DC 20585, by facsimile at (202) 586-8151, or by email at privacy@hq.doe.gov.

FOR FURTHER INFORMATION CONTACT: Ken Hunt, Chief Privacy Officer, U.S. Department of Energy, 1000 Independence Avenue SW, Rm. 8H-085, Washington, DC 20585, by facsimile at (202) 586-8151, by email at privacy@hq.doe.gov, or by telephone: (240) 686-9485.

SUPPLEMENTARY INFORMATION: This notice proposes the establishment of a new system of records, DOE-47 Reasonable Accommodation Requests Records, to collect, maintain, and disseminate records on employees and applicants for employment who seek and receive medical and non-medical accommodations. The purpose of this System of Records is to assemble the Department's collection and treatment of this information together under a single, focused system. Information collected and maintained in this system includes data elements on: applicants for Federal employment who have disabilities; Federal employees with disabilities who seek accommodations to allow them to perform the essential functions of their job; Federal employees with disabilities who request or receive reasonable accommodation as required by the Department as the Rehabilitation Act of 1973 or the Americans with Disabilities Act, as amended by the Americans with Disabilities Act Amendment Act of 2008 (ADAAA); individuals who receive medical and non-medical accommodations under Title VII of the Civil Rights Act of 1964; and Federal employees or applicants for employment requesting accommodation based on a “sincerely held” religious belief, practice, or observance under the Religious Freedom Restoration Act. This system includes requests for a medical or religious accommodation. Another purpose of this system is to track and report the processing of Department-wide requests for reasonable accommodation while ensuring compliance with applicable laws and regulations, including confidentiality requirements protecting personally identifiable information individuals submit in support of accommodation requests.

SYSTEM NAME AND NUMBER:

DOE-47 Reasonable Accommodation Requests Records.

SECURITY CLASSIFICATION:

Unclassified.

SYSTEM LOCATION:

Systems leveraging this SORN may exist in multiple locations. All systems storing records in a cloud-based server are required to use government-approved cloud services and follow National Institute of Standards and Technology (NIST) security and privacy standards for access and data retention. Records maintained in a government-approved cloud server are accessed through secure data centers in the continental United States.

U.S. Department of Energy, Office of the General Counsel, 1000 Independence Avenue SW, Washington, DC 20585.

U.S. Department of Energy, Bonneville Power Administration, P.O. Box 3621, Portland, OR 97208.

U.S. Department of Energy, Carlsbad Field Office, 4021 National Parks Highway, P.O. Box 3090, Carlsbad, NM 88221.

U.S. Department of Energy, Environmental Management Consolidated Business Center (EMCBC), 550 Main Street, Room 7-010, Cincinnati, OH 45202.

U.S. Department of Energy, Golden Field Office, 15013 Denver West Parkway, Golden, CO 80401.

U.S. Department of Energy, Idaho Operations Office, 1955 Fremont Avenue, Idaho Falls, ID 83415.

U.S. Department of Energy, National Energy Technology Laboratory, (Pittsburgh) 626 Cochran Mill Road, Pittsburgh, PA 15236.

U.S. Department of Energy, National Energy Technology Laboratory (Morgantown), 3610 Collins Ferry Road, Morgantown, WV 26505.

U.S. Department of Energy, National Energy Technology Laboratory, (Albany) 1450 Queen Avenue SW, Albany, OR 97321.

U.S. Department of Energy, NNSA Naval Reactors Field Office, P.O. Box 109, West Mifflin, PA 15122-0109.

U.S. Department of Energy, NNSA Naval Reactors Headquarters, 1240 Isaac Hull Avenue SE, Washington Navy Yard, DC 20376-0822.

U.S. Department of Energy, NNSA Nevada Site Office, P.O. Box 98518, Las Vegas, NV 89193-8518.

U.S. Department of Energy, NNSA Service Center, NNSA Albuquerque Complex, P.O. Box 5400, Albuquerque, NM 87185-5400.

U.S. Department of Energy, Office of Science Consolidated Service Center, Oak Ridge Office, P.O. Box 2001, Oak Ridge, TN 37831.

U.S. Department of Energy, Office of Science Consolidated Service Center, Chicago Office, 9800 South Cass Avenue, Lemont, IL 60439.

U.S. Department of Energy, Office of Science and Technical Information, 1 Science Gov Way, P.O. Box 62, Oak Ridge, TN 37830.

U.S. Department of Energy, Hanford Field Office, P.O. Box 550, Richland, WA 99352.

U.S. Department of Energy, Savannah River Operations Office, P.O. Box A, Aiken, SC 29801.

U.S. Department of Energy, Southeastern Power Administration, 1166 Athens Tech Road, Elberton, GA 30635-6711.

U.S. Department of Energy, Southwestern Power Administration, One West Third Street, Suite 1500, Tulsa, OK 74103.

U.S. Department of Energy, Strategic Petroleum Reserve Project Management Office, 900 Commerce Road East, New Orleans, LA 70123.

U.S. Department of Energy, Western Area Power Administration, P.O. Box 281213, Lakewood, CO 80228-8213.

SYSTEM MANAGER:

Director, Office of Policy, Labor and Employee Relations, Office of the Chief Human Capital Officer, U.S. Department of Energy, 1000 Independence Avenue SW, Washington, DC 20585.

AUTHORITY FOR MAINTENANCE OF THE SYSTEM:

42 U.S.C. 7101 et seq.; 50 U.S.C. 2401 et seq.; 5 U.S.C. 301; Title VII of the Civil Rights Act of 1964, as amended; Civil Rights Act of 1991; The Rehabilitation Act of 1973, 29 U.S.C. 791, as amended; The Americans with Disabilities Act of 1990, 42, U.S.C. 12101 et seq. (ADA); “Guidelines on Discrimination Because of Religion” and “Federal Sector Equal Employment Opportunity” Title 29 Code of Federal Regulations (CFR) Parts 1605, 1614; Executive Order 13164, Requiring Federal Agencies to Establish Procedures to Facilitate the Provision of Reasonable Accommodation (July 26, 2000); Equal Employment Opportunity Commission's Policy Guidance on Religious Discrimination (OLC Control Number: EEOC-CVG-2021-3), July 15, 2021.

PURPOSE(S) OF THE SYSTEM:

The purpose of this system is to allow the Department of Energy and its elements to collect, process, assess, and maintain records on individuals that seek medical and religious accommodations to carry out the essential functions of their job. The system will collect and maintain records pertaining to employees and applications for employment from individuals that have disabilities and employees with disabilities or other extenuating and justifiable circumstances that request or receive reasonable accommodation, including exceptions for vaccination requirements based on medical or a “sincerely held” religious belief, practice, or observance. Another purpose of the system is to track and report the processing of requests for reasonable accommodation Department-wide to comply with applicable laws and regulations and to preserve and maintain the confidentiality of information provided in support of the accommodation request. The system documents and tracks requests made to the Department for reasonable accommodation and action taken by the Department in response to the requests. It also serves as a reference source for inquiries and responses thereto on a “need to know” basis only. Aggregate, de-identified data may be shared with Congress or other Federal agencies with an interest in employment or accommodation data and information.

CATEGORIES OF INDIVIDUALS COVERED BY THE SYSTEM:

Categories of individuals covered by this system include applicants for Federal employment and Federal employees that request or receive reasonable accommodation(s) on medical or religious grounds, including requests for medical accommodations made under the Rehabilitation Act of 1973, the Americans with Disabilities Act Amendments Act, requests for religious accommodations made under Title VII of the Civil Rights Act of 1964 or the Religious Freedom Restoration Act, or individuals asked to support requests for medical or religious accommodations, such as third-party medical reviewers or consultants, requestor's physicians, or requestor's spiritual leaders. This also includes participants in Department programs and activities, visitors at Department facilities, authorized individuals or representatives (e.g., family member or attorney), who request a reasonable accommodation on behalf of an applicant for employment or employee.

CATEGORIES OF RECORDS IN THE SYSTEM:

Date of request; requestor's first, middle, and last names; employee identification number; email address, phone number, job title, pay plan, series, and grade; requestor's healthcare provider's name, license number, facility address, phone number, and email address; copies of employee records, such as personnel actions or pay and leave records, necessary for processing or effecting an accommodation, supplemental medical documentation, as required; authorization for limited release of medical information; requestor's religious or spiritual leader's name, email address, and phone number; name, email address, and phone number of third parties involved in assisting the requestor with making the request, such as a friend, health professional, or family member, and those Department officials processing the request, including the Designated Management Official (DMO), Local Reasonable Accommodation Coordinator (LRAC), Reasonable Accommodation Program Manager (RA PM), members of the Office of the General Counsel (OGC), third-party medical reviewer's communications, notes, and other review materials, the requestor's supervisor, and requestor's Union Representative; the name and location of applicable Servicing Human Resources Office or Shared Service Center; a description of the nature of the requestor's medical condition and its impact on their ability to perform their job; how the requestor's disability affects their major life activities; a description of the accommodation(s) requested; requestor's religious belief, practice, or observance that is the basis for their request for accommodation; a description of the timing/duration/frequency of the requested accommodation; supplemental documentation from the religious or spiritual leader, as required; description of the length of the requestor's religious belief; description of the requestor's objection to a vaccine requirement; description of whether medical or non-medical condition or religious belief precludes use of all or only certain vaccines; list of vaccines previously taken; a description of the requestor's actual or potential essential job functions; a rating of and comments concerning how the requested accommodation(s), if granted, would affect essential job functions; details from the requestor's healthcare provider concerning the impact the disability may have on key duties/privileges of employment/benefits and how the requested accommodation(s) would lessen the requestor's burden; descriptions of the nature, severity, and likely duration of the disability, activities limited by the disability, extent or degree to which the disability limits activities, the functional reason the requested accommodation(s) is required, and how the accommodation(s) will assist the requestor in applying for a job, performing essential job functions or enjoying the benefits of employment; determination for requested reasonable accommodation(s) and statement of rationale for the determination; documentation concerning denials, reconsideration, administrative closure, expenses related to the accommodation, appeal rights, interim accommodation, and requests for and limitations on a reassignment as reasonable accommodation of last resort; or other management reports/assessments, checklists, notes, and other relevant correspondence.

RECORD SOURCE CATEGORIES:

The records are provided by the individual making the request (“the requestor”), third-parties acting on behalf of the requestor, by Department personnel involved in processing or adjudicating the request (including supervisors, reasonable accommodation coordinators, equal employment opportunity (EEO) specialists, employee relation specialists, attorneys, medical review personnel, and contracting officers and their representatives), third-party claims' reviewers or consultants, and by others furnishing records pertinent to the request (such as, the requestor's healthcare provider, religion/spiritual leader, or technical experts).

ROUTINE USES OF RECORDS MAINTAINED IN THE SYSTEM, INCLUDING CATEGORIES OF USERS AND PURPOSES OF SUCH USES:

Any disclosures of information from this System of Records will be compatible with the purpose for which the Office of the Chief Human Capital Officer (HC) collects and maintains the information. Information from this system may be disclosed to the individual to whom it pertains, or: (1) to the individual's next-of kin, parent, guardian, or emergency contact; (2) to the public about an individual's involvement with HC with the written consent of that individual; or (3) in accordance with standard routine uses as follows:

1. A record from this system may be disclosed as a routine use to supervisors and managers who need to know the necessary work restrictions and about the necessary approved accommodation(s).

2. A record from this system may be disclosed as a routine use to safety, medical, emergency personnel if the disability may require emergency treatment.

3. A record from this system may be disclosed as a routine use to government officials who investigate the reasonable accommodation program for compliance with and nondiscrimination under section 501 of the Rehabilitation Act.

4. A record from this system may be disclosed as a routine use to workers' compensation offices or insurance carriers.

5. A record from this system may be disclosed as a routine use to officials at a Federal, State, or local agency, such as the Equal Employment Opportunity Commission, that is part of the review of the issue(s) raised in the accommodation. A record from this system may be disclosed as a routine use to the appropriate local, state, tribal, or other Federal agency when records alone or in conjunction with other information, indicates a violation or potential violation of law whether civil, criminal, or regulatory in nature, and whether arising by general statute or particular program pursuant thereto.

6. A record from this system may be disclosed as a routine use for the purpose of an investigation, settlement of claims, or the preparation and conduct of litigation to (1) persons representing the Department in the investigation, settlement or litigation, and to individuals assisting in such representation; (2) others involved in the investigation, settlement, and litigation, and their representatives and individuals assisting those representatives; (3) witnesses, potential witnesses, or their representatives and assistants; and (4) any other persons who possess information pertaining to the matter when it is relevant and necessary to obtain information or testimony relevant to the matter.

7. A record from this system may be disclosed as a routine use in court or administrative proceedings to the tribunals, counsel, other parties, witnesses, and the public (in publicly available pleadings, filings, or discussion in open court) when such disclosure: (1) is relevant to, and necessary for, the proceeding; (2) is compatible with the purpose for which the Department collected the records; and (3) the proceedings involve:

a. The Department, its predecessor agencies, current or former contractor of the Department, or other United States Government agencies and their components, or

b. A current or former employee of the Department and its predecessor agencies, current or former contractors of the Department, or other United States Government agencies and their components, who is acting in an official capacity or in any individual capacity where the Department or other United States Government agency has agreed to represent the employee.

8. A record from this system may be disclosed as a routine use to DOE contractors in performance of their contracts, and their officers and employees who have a need for the record in the performance of their duties. Those provided information under this routine use are subject to the same limitations applicable to Department officers and employees under the Privacy Act.

9. A record from this system may be disclosed as a routine use to appropriate agencies, entities, and persons when (1) the Department suspects or has confirmed that there has been a breach of the System of Records; (2) the Department has determined that as a result of the suspected or confirmed breach there is a risk of harm to individuals, DOE (including its information systems, programs, and operations), the Federal Government, or national security; and (3) the disclosure made to such agencies, entities, and persons is reasonably necessary to assist in connection with the Department's efforts to respond to the suspected or confirmed breach or to prevent, minimize, or remedy such harm.

10. A record from this system may be disclosed as a routine use to another Federal agency or Federal entity, when the Department determines that information from this System of Records is reasonably necessary to assist the recipient agency or entity in (1) responding to a suspected or confirmed breach or (2) preventing, minimizing, or remedying the risk of harm to individuals, the recipient agency or entity (including its information systems, programs, and operations), the Federal Government, or national security, resulting from a suspected or confirmed breach.

11. A record from this system may be disclosed as a routine use to a Member of Congress submitting a request involving a constituent when the constituent has requested assistance from the member concerning the subject matter of the record. The Member of Congress must provide a copy of the constituent's signed request for assistance.

12. A record from this system may be disclosed as a routine use to an authorized appeal grievance examiner, formal complaints examiner, administrative judge, equal opportunity investigator, arbitrator or other duly authorized official engaged in investigation or settlement of a grievance, complaint or appeal filed by an employee.

13. A record from this system may be disclosed as a routine use to such recipients and under such circumstances and procedures as are mandated by Federal statue, executive order, or treaty.

POLICIES AND PRACTICES FOR STORAGE OF RECORDS:

Records in this system are on paper or in digital or other electronic form. Digital and other electronic images are stored on a storage area network in a secured environment. Records, whether paper or electronic, may be stored in a separate, secure location at the Department of Energy Headquarters or at Department field sites.

POLICIES AND PRACTICES FOR RETRIEVAL OF RECORDS:

Records may be retrieved by name of the requester, employing organizational element, or any unique identifying number assigned to the request, if applicable.

POLICIES AND PRACTICES FOR RETENTION AND DISPOSAL OF RECORDS:

Retention and disposition of these records is in accordance with the National Archives and Records Administration approved records disposition schedule with a retention of 3 years.

ADMINISTRATIVE, TECHNICAL, AND PHYSICAL SAFEGUARDS:

Electronic records may be secured and maintained on a cloud-based software server and operating system that resides in Federal Risk and Authorization Management Program (FedRAMP) and Federal Information Security Modernization Act (FISMA) hosting environment. Data located in the cloud-based server is firewalled and encrypted at rest and in transit. The security mechanisms for handling data at rest and in transit are in accordance with DOE encryption standards. Records are protected from unauthorized access through the following appropriate safeguards:

• Administrative: Access to all records is limited to lawful government purposes only, with access to electronic records based on role and either two-factor authentication or password protection. The system requires passwords to be complex and to be changed frequently. Users accessing system records undergo frequent training in Privacy Act and information security requirements. Security and privacy controls are reviewed on an ongoing basis.

• Technical: Computerized records systems are safeguarded on Departmental networks configured for role-based access based on job responsibilities and organizational affiliation. Privacy and security controls are in place for this system and are updated in accordance with applicable requirements as determined by NIST and DOE directives and guidance.

• Physical: Computer servers on which electronic records are stored are located in secured Department facilities, which are protected by security guards, identification badges, and cameras. Paper copies of all records are locked in file cabinets, file rooms, or offices and are under the control of authorized personnel. Access to these facilities is granted only to authorized personnel and each person granted access to the system must be individual authorized to use or administer the system.

RECORD ACCESS PROCEDURES:

The Department follows the procedures outlined in 10 CFR 1008.4. Valid identification of the individual making the request is required before information will be processed, given, access granted, or a correction considered, to ensure that information is processed, given, corrected, or records disclosed or corrected only at the request of the proper person.

CONTESTING RECORD PROCEDURES:

Any individual may submit a request to the System Manager and request a copy of any records relating to them. In accordance with 10 CFR 1008.11, any individual may appeal the denial of a request made by him or her for information about or for access to or correction or amendment of records. An appeal shall be filed within 90 calendar days after receipt of the denial. When an appeal is filed by mail, the postmark is conclusive as to timeliness. The appeal shall be in writing and must be signed by the individual. The words “PRIVACY ACT APPEAL” should appear in capital letters on the envelope and the letter. Appeals relating to DOE records shall be directed to the Director, Office of Hearings and Appeals (OHA), 1000 Independence Avenue SW, Washington, DC 20585.

NOTIFICATION PROCEDURES:

In accordance with the DOE regulation implementing the Privacy Act, 10 CFR part 1008, a request by an individual to determine if a system of records contains information about themselves should be directed to the U.S. Department of Energy, Headquarters, Privacy Act Officer. The request should include the requester's complete name and the time period for which records are sought.

EXEMPTIONS PROMULGATED FOR THE SYSTEM:

None.

HISTORY:

This notice proposes to establish DOE-47 Reasonable Accommodation Requests Records as a new system of records. There has been no previous publication in the Federal Register pertaining to this system of records.

Signing Authority

This document of the Department of Energy was signed on September 20, 2024, by Ann Dunkin, Senior Agency Official for Privacy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 23, 2024.
Treena V. Garrett,
Federal Register Liaison Officer, U.S. Department of Energy.

[FR Doc. 2024-22084 Filed 9-25-24; 8:45 am]

BILLING CODE 6450-01-P